DEPARTMENT OF TRANSPORTATION

Office of the Secretary of Transportation

[Docket No.: DOT-OST-2026-0628]

Intelligent Transportation Systems Program Advisory Committee AGENCY: Office of the Secretary of Transportation (OST), U.S. Department of Transportation (DOT).

ACTION: Notice; solicitation of nominations for membership.

SUMMARY: The Department solicits nominations for membership to serve on the Intelligent Transportation Systems Program Advisory Committee (ITSPAC), which is intended to provide information, advice, and recommendations to the Secretary of Transportation on matters relating to Intelligent Transportation Systems (ITS) program needs, objectives, plans, approaches, contents, and progress.

DATES: The deadline for nominations for Committee members must be received on or before March 16, 2026.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building 5th Floor, Room W12-213, Washington, DC 20590-0001.

• Hand Delivery: 1200 New Jersey Avenue SE, West Building 5th Floor, Room W12-213, Washington, DC, between 9 a.m. and 5 p.m. ET, Monday through Friday, except Federal holidays.

FOR FURTHER INFORMATION CONTACT: Robert Sheehan, Program Manager, Intelligent Transportation Systems Joint Program Office, itspac@dot.gov.

SUPPLEMENTARY INFORMATION: The Intelligent Transportation Systems Program Advisory Committee (ITSPAC) was established by the Secretary on August 10, 2023 in accordance with 23 U.S.C. 515(h)(1) as amended by sections 13008 and 25001 of the Infrastructure Investment and Jobs Act (Pub. L. 117-58) (November 16, 2021). ITSPAC is operated in accordance with the Federal Advisory Committee Act, 5 U.S.C. ch. 10. The purpose of ITSPAC is to provide advice and recommendations to the Secretary on matters relating to ITS.

In particular, ITSPAC will be responsive to specific assignments and may conduct studies, inquiries, and workshops as the Secretary may authorize or direct. At a minimum, ITSPAC will be expected to perform the following duties:

A. Provide input into the development of ITS aspects of the U.S. DOT Strategic Plan under 49 U.S.C. 6503; and

B. Review, at least annually, areas of ITS programs and research being considered for funding by the Department, to determine:

(i) Whether these activities are likely to advance either the state-of-the-practice or state-of-the-art in ITS;

(ii) Whether ITS technologies are likely to be deployed by users, and if not, to determine the barriers to deployment; and

(iii) The appropriate roles for Government and the private sector in investing in the programs, research, and technologies being considered.

The Committee is continuing and will be subject to renewal every two years. The Committee is expected to meet not less frequently than twice each year. Unless otherwise required by law or approved by the Secretary, all meetings will be held virtually.

In this notice, the Department is soliciting nominations for membership to the Committee. The Committee shall report to the Secretary through the Intelligent Transportation Systems Joint Program Office, and shall comprise no more than 25 members, representing a balance between metropolitan and rural interests, and include at a minimum:

A. A representative from a State highway department;

B. A representative from a local highway department who is not from a metropolitan planning organization;

C. A representative from a State, local, or regional transit agency;

D. A representative from a State, local, or regional wildlife, land use, or resource management agency;

E. A representative from a metropolitan planning organization;

F. A representative of a national transit association;

G. A representative of a national, State, or local transportation agency or association;

H. A private sector user of intelligent transportation system technologies;

I. A private sector developer of intelligent transportation system technologies, which may include emerging vehicle technologies;

J. An academic researcher with expertise in computer science or another information science field related to intelligent transportation systems, and who is not an expert on transportation issues;

K. An academic researcher who is a civil engineer;

L. An academic researcher who is a social scientist with expertise in transportation issues;

M. An academic researcher who is a biological or ecological scientist with expertise in transportation issues;

N. A representative from a nonprofit group representing the intelligent transportation system industry;

O. A representative from a public interest group concerned with safety;

P. A representative of a labor organization;

Q. A representative of a mobility-providing entity;

R. An expert in traffic management;

S. A representative from a public interest group concerned with the impact of the transportation system on land use and residential patterns;

T. A representative from a public interest group concerned with the impact of the transportation system on terrestrial and aquatic species and the habitat of those species; and

U. Members with expertise in planning, safety, telecommunications, and operations;

V. An expert in cybersecurity; and

W. An automobile manufacturer.

Members are appointed by the Secretary of Transportation. Members will serve three year terms but may be reappointed, and may serve until a new member is appointed. Past members of the Committee are welcome to apply. The Department is interested in ensuring membership is balanced fairly in terms of the points of view represented and the functions to be performed by the Committee.

Process and Deadline for Submitting Nominations: Qualified individuals can self-nominate or be nominated by any individual or organization. To be considered for ITSPAC, nominators should submit the following information:

(1) Name, title, and relevant contact information (including phone, fax, and email address) of the individual requesting consideration;

(2) A letter of support from a company, union, trade association, academic, or nonprofit organization on letterhead containing a brief description why the nominee should be considered for membership;

(3) Short biography of nominee, including professional and academic credentials;

(4) An affirmative statement that the nominee meets all Committee eligibility requirements.

Please do not send company, trade association, or organization brochures or any other information. Materials submitted should total two pages or less. Should more information be needed, DOT staff will contact the nominee, obtain information from the nominee's past affiliations, or obtain information from publicly available sources, such as the internet.

Nominations must be received before March 16, 2026. Nominees selected for appointment to the Committee will be notified by return email and by a letter of appointment.

Issued in Washington, DC, on February 11, 2026.
Robert Sheehan,
Program Manager, Intelligent Transportation Systems Joint Program Office.

[FR Doc. 2026-02930 Filed 2-12-26; 8:45 am]

BILLING CODE 4910-9X-P